DEPARTMENT OF ENERGY

Federal Energy Regulatory Commission

Notice of Attendance at PJM Interconnection, L.L.C. Meetings

The Federal Energy Regulatory Commission (Commission) hereby gives notice that members of the Commission and Commission staff may attend upcoming PJM Interconnection, L.L.C. (PJM) Members Committee and Markets and Reliability Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM website.

PJM Members Committee

• April 19, 2018 (Wilmington, DE)

• May 14-16, 2018 (National Harbor, MD)

• June 21, 2018 (Wilmington, DE)

• July 26, 2018 (Wilmington, DE)

• September 27, 2018 (Audubon, PA)

• October 25, 2018 (Wilmington, DE)

• December 6, 2018 (Wilmington, DE)

PJM Markets and Reliability Committee

• April 19, 2018 (Wilmington, DE)

• May 24, 2018 (Wilmington, DE)

• June 21, 2018 (Wilmington, DE)

• July 26, 2018 (Wilmington, DE)

• August 23, 2018 (Audubon, PA)

• September 27, 2018 (Audubon, PA)

• October 25, 2018 (Wilmington, DE)

• December 6, 2018 (Wilmington, DE)

• December 20, 2018 (Audubon, PA)

PJM Market Implementation Committee

• May 2, 2018 (Audubon, PA)

• June 6, 2018 (Audubon, PA)

• July 11, 2018 (Audubon, PA)

• August 8, 2018 (Audubon, PA)

• September 12, 2018 (Audubon, PA)

• October 10, 2018 (Audubon, PA)

• November 7, 2018 (Audubon, PA)

• December 12, 2018 (Audubon, PA)

The discussions at each of the meetings described above may address matters at issue in pending proceedings before the Commission, including the following currently pending proceedings:

Docket No. EL05-121, PJM Interconnection, L.L.C.

Docket No. ER12-2708, Potomac-Appalachian Transmission Highline, LLC. et al.

Docket No. ER13-535, PJM Interconnection, L.L.C.

Docket No. EL14-37, PJM Interconnection, L.L.C.

Docket No. ER14-972, PJM Interconnection, L.L.C.

Docket Nos. ER14-1461, EL14-48, PJM Interconnection, L.L.C.

Docket No. EL15-18, Consolidated Edison Company of New York, Inc. v. PJM Interconnection, L.L.C.

Docket No. EL15-67, Linden VFT, LLC v. PJM Interconnection, L.L.C.

Docket Nos. EL15-73, ER16-372, PJM Interconnection, L.L.C.

Docket No. EL15-79, TranSource, LLC v. PJM Interconnection, L.L.C.

Docket No. EL15-95, Maryland and Delaware State Commissions v. PJM Interconnection, L.L.C.

Docket No. ER15-1387, PJM Interconnection, L.L.C.

Docket Nos. ER15-2562, ER15-2563, PJM Interconnection, L.L.C.

Docket No. EL16-49, Calpine Corporation, et al., v. PJM Interconnection, L.L.C.

Docket Nos. EL16-71, ER17-179, Monongahela Power Company, et al., PPL Electric Utilities Corporation

Docket Nos. EL16-96, ER16-736, ER16-2401, PJM Interconnection, L.L.C.

Docket No. EL17-22, Independent Market Monitor for PJM Interconnection, L.L.C. v. American Electric Power Corporation

Docket No. EL17-31, Northern Illinois Municipal Power Agency v. PJM Interconnection, L.L.C.

Docket No. EL17-32, Old Dominion Electric Cooperative v. PJM Interconnection, L.L.C.

Docket No. EL17-36, Advanced Energy Management Alliance v. PJM Interconnection, L.L.C.

Docket No. EL17-37, American Municipal Power, Inc. v. PJM Interconnection, L.L.C.

Docket No. EL17-62, Potomac Economics, Ltd. v. PJM Interconnection, L.L.C.

Docket No. EL17-64, Energy Storage Association v. PJM Interconnection, L.L.C.

Docket No. EL17-65, Renewable Energy Systems America v. PJM Interconnection, L.L.C.

Docket No. EL17-68, Linden VFT, LLC v. PJM Interconnection, L.L.C.

Docket No. EL17-75, Advanced Energy Economy

Docket No. EL17-82, The Independent Market Monitor for PJM v. PJM Interconnection, L.L.C.

Docket No. EL17-94, New York Power Authority v. PJM Interconnection, L.L.C. and PJM Transmission Owners

Docket No. ER17-211, Mid-Atlantic Interstate Transmission, LLC

Docket Nos. ER17-214, ER17-216, PJM Interconnection, L.L.C.

Docket No. ER17-217, PJM Interconnection, L.L.C.

Docket No. ER17-349, PJM Interconnection, L.L.C.

Docket No. ER17-725, PJM Interconnection, L.L.C.

Docket No. ER17-775, PJM Interconnection, L.L.C.

Docket No. ER17-905, New York Independent System Operator, Inc. v. PJM Interconnection, L.L.C.

Docket No. ER17-950, PJM Interconnection, L.L.C.

Docket No. ER17-1016, PJM Interconnection, L.L.C.

Docket No. ER17-1138, PJM Interconnection, L.L.C.

Docket No. ER17-1420, PJM Interconnection, L.L.C.

Docket No. ER17-1567, PJM Interconnection, L.L.C.

Docket No. ER17-2073, PJM Interconnection, L.L.C.

Docket No. ER17-2267, PJM Interconnection, L.L.C.

Docket No. ER17-2218, PJM Interconnection, L.L.C.

Docket No. ER17-2220, Midcontinent Independent System Operator, Inc.

Docket No. ER17-2291, PJM Interconnection, L.L.C.

Docket No. EL18-7, American Electric Power Service Corporation v. Midcontinent Independent System Operator, Inc.

Docket No. EL18-26, EDF Renewable Energy, Inc. v. Midcontinent Independent System Operator, Inc., Southwest Power Pool, Inc. and PJM Interconnection, L.L.C.

Docket No. EL18-34, PJM Interconnection, L.L.C.

Docket No. EL18-61, Public Citizen, Inc. v. PJM Interconnection, L.L.C.

Docket No. ER18-86, PJM Interconnection, L.L.C.

Docket No. ER18-87, PJM Interconnection, L.L.C.

Docket No. ER18-88, PJM Interconnection, L.L.C.

Docket No. ER18-136, Midcontinent Independent System Operator, Inc.

Docket No. ER18-137, PJM Interconnection, L.L.C.

Docket No. ER18-815, PJM Interconnection, L.L.C.

Docket Nos. ER18-459, ER18-460, PJM Interconnection, L.L.C. and Ohio Valley Electric Corporation

Docket No. ER18-579, PJM Interconnection, L.L.C.

Docket No. ER18-614, PJM Interconnection, L.L.C.

Docket No. ER18-663, PJM Interconnection, L.L.C.

Docket No. ER18-932, PJM Interconnection, L.L.C.

Docket No. ER18-934, PJM Interconnection, L.L.C.

Docket No. ER18-680, PJM Interconnection, L.L.C.

Docket No. ER18-870, PJM Interconnection, L.L.C.

Docket No. ER18-988, PJM Interconnection, L.L.C.

Docket No. ER18-1131, PJM Interconnection, L.L.C.

Docket No. ER18-1148, PJM Interconnection, L.L.C.

Docket No. ER18-1175, PJM Interconnection, L.L.C.

Docket No. ER18-1245, PJM Interconnection, L.L.C.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: April 6, 2018.
Kimberly D. Bose,
Secretary.

[FR Doc. 2018-07557 Filed 4-11-18; 8:45 am]

BILLING CODE 6717-01-P